DEPARTMENT OF ENERGY

Western Area Power Administration

Interconnection of the Grande Prairie Wind Farm, Holt County, Nebraska (DOE/EIS-0485)

AGENCY: Western Area Power Administration, Department of Energy.

ACTION: Record of Decision.

SUMMARY: Western Area Power Administration (Western) received a request from Grande Prairie Wind, LLC (Grande Prairie Wind), a subsidiary of Geronimo Wind Energy, LLC d.b.a. Geronimo Energy, LLC to interconnect their proposed Grande Prairie Wind Farm (Project) to Western's power transmission system. The proposed interconnection point would be on Western's existing Fort Thompson to Grand Island 345-kilovolt (kV) transmission line, approximately seven miles east of the town of O'Neill in Holt County, Nebraska. The Project would be built on private and State cropland and pasture.

On January 16, 2015, the Notice of Availability (NOA) of the Final Environmental Impact Statement (EIS) for the Interconnection of the Grande Prairie Wind Farm, Holt County, Nebraska (DOE/EIS-0485) was published in the Federal Register (80 FR 2414). After considering the environmental impacts, Western has decided to execute an interconnection agreement with Grande Prairie Wind to interconnect the proposed Project to Western's transmission system and to construct, own, and operate a new switchyard adjacent to its Fort Thompson to Grand Island 345-kV transmission line to accommodate that interconnection.

FOR FURTHER INFORMATION CONTACT: For further information, please contact Mr. Rod O'Sullivan, Western Area Power Administration, P.O. Box 281213, Lakewood, CO 80228-8213, telephone (720) 962-7260, fax (720) 962-7263, or email: osullivan@wapa.gov. For general information on DOE's National Environmental Policy Act (NEPA) review process, please contact Carol M. Borgstrom, Director, Office of NEPA Policy and Compliance, GC-54, U.S. Department of Energy, Washington, DC 20585, telephone (202) 586-4600 or (800) 472-2756, or email: askNEPA@hq.doe.gov.

SUPPLEMENTARY INFORMATION: Western is a Federal agency under the U.S. Department of Energy (DOE) that markets and transmits wholesale electrical power through an integrated 17,000-circuit mile, high-voltage transmission system across 15 central and western states. Western's Open Access Transmission Service Tariff (Tariff) provides open access to its electric transmission system. Considering the requester's objectives, Western provides transmission services if there is sufficient available capacity and the reliability of the transmission system is maintained.

Proposed Federal Action

Western's Proposed Federal Action is to execute an interconnection agreement with Grande Prairie Wind to interconnect the proposed Project to Western's transmission system and to construct, own, and operate a new switchyard adjacent to its Fort Thompson to Grand Island 345-kV transmission line to accommodate that interconnection.

Grande Prairie Wind's Proposed Project

Grande Prairie Wind proposes to construct and operate a 400-megawatt (MW) wind energy generation facility in Holt County in northern Nebraska. The proposed Project would interconnect to Western's 345-kV Fort Thompson to Grand Island transmission line at a new switchyard constructed, owned and operated by Western. The Project area would occupy approximately 54,250 acres in portions of Willowdale, Antelope, Grattan, Iowa, Scott, and Steel Creek Townships. Grande Prairie Wind proposes to build up to 266 wind turbines, up to 85 miles of access roads, an underground electrical power collection system, collector substations, a step-up substation, a 14-mile overhead transmission line, meteorological towers, maintenance buildings, and other associated ancillary facilities. Grande Prairie Wind proposes to begin construction as early as spring 2015. The life of the Project is anticipated to be a minimum of 20 years.

Description of Alternatives

Under its Proposed Action Alternative, Western would execute an interconnection agreement with Grande Prairie Wind to interconnect their proposed Project to Western's transmission system and to construct, own, and operate a new switchyard adjacent to its Fort Thompson to Grand Island 345-kV transmission line to accommodate that interconnection. Grande Prairie Wind would construct and operate the 400-MW Project northeast of O'Neill in Holt County, Nebraska.

Under the No Action Alternative, Western would not enter into an interconnection agreement and would not construct a switchyard for the proposed Project interconnection. Although Grande Prairie Wind could still construct and operate their Project, the wind farm would need to rely on different means of power transmission. For purposes of the NEPA analysis, the No Action Alternative assumed the proposed Project would not be built. Western has identified the No Action alternative as its environmentally preferred alternative as there would likely be no new impacts. Grande Prairie Wind's objectives relating to renewable energy development would not be met.

Public Involvement

The public and interested parties were notified of the proposed Project and public comment opportunity through a Notice of Intent published in the Federal Register on April 16, 2012 (77 FR 22569). The U.S. Environmental Protection Agency (EPA) published a NOA of the Draft EIS in the Federal Register on June 20, 2014 (79 FR 35346). The public comment period closed on August, 4, 2014. On January 16, 2015, the EPA published a NOA of the Final EIS for the Project in the Federal Register (80 FR 2414).¹

¹ The Final EIS can be found on Western's Web site at: http://www.wapa.gov/ugp/Environment/documents/FEIS_GrandePrairie_2014-12-29.pdf.

Each official notification published in the Federal Register was accompanied concurrently by direct mailings of notices to State and Federal agencies, Tribal governments, landholders and interested parties, and widely distributed local notices and advertisements.

Mitigation

The design features, best management practices (BMPs), and avoidance and minimization measures are considered an integral part of the proposed Project to be implemented by Grande Prairie Wind as requirements of their agreements with their construction contractors. These design features, BMPs, and avoidance and minimization measures described in detail in the Final EIS reflect all practicable means to avoid or minimize environmental harm from Grande Prairie Wind's Project and Western's proposed action.

Each resource section in the Final EIS provides specific mitigation measures to address potential impacts of the proposed Project on that resource and can be reviewed in detail in chapter 4 of the Final EIS. Western's decision to execute an interconnection agreement considers Grande Prairie Wind's commitments to implement these design features, BMPs, and avoidance and minimization measures, along with the attendant reduction in environmental impacts that would result from their implementation. A Mitigation Action Plan is not required for Western's proposed action.

Endangered Species Act

Section 7(a)(2) of the Endangered Species Act of 1973, as amended (16 United States Code [U.S.C.] 1531 et seq.) requires Federal agencies to consult with the U.S. Fish and Wildlife Service (USFWS) on their Federal actions and how they may affect federally listed threatened or endangered species. Western requested concurrence with their Biological Assessment, Formal Conferencing on the Project's effects on Northern Long Eared Bat, and Formal Consultation on the Project's effects on the American Burying Beetle by letter on October 1, 2014. Subsequently, the USFWS issued its Biological Opinion on March 24, 2015, and a separate Conferencing Opinion on March 30, 2015.

National Historic Preservation Act

Final cultural resource reports and effects determination were sent to the Nebraska State Historical Preservation Officer (SHPO) and were subsequently approved. A Memorandum of Agreement addressing effects to properties on or eligible for listing on the National Register of Historic Places for the preservation of eligible properties was signed by Grand Prairie Wind, the SHPO, and Western on March 25, 2015, in compliance with the National Historic Preservation Act.

Comments on the Final EIS

One comment was received by the U.S. Environmental Protection Agency (EPA). In their February 17, 2015, letter, EPA recommended additional alternatives be considered in Western's future NEPA documents.

Decision

Western's decision is to execute an interconnection agreement with Grande Prairie Wind to interconnect their proposed Project to Western's transmission system and to construct, own, and operate a new switchyard adjacent to its Fort Thompson to Grand Island 345-kV transmission line to accommodate that interconnection.² Western's decision to grant this interconnection request satisfies the agency's statutory mission and Grande Prairie Wind's objectives while minimizing harm to the environment. Full implementation of this decision is contingent upon Grande Prairie Wind's obtaining all other applicable permits and approvals as well as executing an interconnection agreement in accordance with Western's Tariff. This decision is based on the information contained in the Interconnection of the Grande Prairie Wind Farm Final EIS. This ROD was prepared pursuant to the requirements of the Council on Environmental Quality Regulations for Implementing the Procedural Provisions of the NEPA (40 CFR parts 1500-1508) and DOE's NEPA Implementing Procedures (10 CFR part 1021).

² On November 16, 2011, DOE's Acting General Counsel restated the delegations to Western's Administrator of all the authorities of the General Counsel respecting Environmental Impact Statements.

Dated: April 20, 2015.
Mark A. Gabriel,
Administrator.

[FR Doc. 2015-09938 Filed 4-27-15; 8:45 am]

BILLING CODE 6450-01-P